DEPARTMENT OF COMMERCE

National Oceanic and Atmospheric Administration

50 CFR Part 660

[Docket No. 130808694-4378-03]

RIN 0648-BD37

Magnuson-Stevens Act Provisions; Fisheries off West Coast States; Pacific Coast Groundfish Fishery; Commercial Groundfish Fishery Management Measures; Rockfish Conservation Area Boundaries for Vessels Using Bottom Trawl Gear; Correction

AGENCY: National Marine Fisheries Service (NMFS), National Oceanic and Atmospheric Administration (NOAA), Commerce.

ACTION: Final rule; correcting amendment.

SUMMARY: This action contains coordinate corrections to the Rockfish Conservation Area (RCA) boundary regulations that published in the Federal Register on April 17, 2014. This document corrects 2014 groundfish bottom trawl Rockfish Conservation Area boundary coordinates described in table 1 (North) that were inadvertently misreported in Rockfish Conservation Area Boundaries for Vessels Using Bottom Trawl Gear final rule.

DATES: This correcting amendment is effective May 13, 2014.

FOR FURTHER INFORMATION CONTACT: Colby Brady, 206-526-6117; Colby.brady@noaa.gov.

SUPPLEMENTARY INFORMATION:

Background

The 2013-2014 Biennial Specifications and Management Measures rule established the 2013-2014 harvest specifications and management measures for groundfish taken in the U.S. exclusive economic zone off the coasts of Washington, Oregon, and California consistent with the Magnuson-Stevens Fishery Conservation and Management Act (MSA) and the Pacific Coast Groundfish Fishery Management Plan (PCGFMP) (78 FR 580, January 3, 2013). Since 2002 NMFS has used large-scale, depth-based closures to reduce catch of overfished groundfish, while still allowing the harvest of healthy stocks to the extent possible. RCAs are gear specific closures, and apply to vessels that take and retain groundfish species. Regarding RCA coordinates, there was an error in the 2014 Limited Entry Trawl Rockfish Conservation Areas and Landing Allowances table 1 (North) coordinates published in the Federal Register (79 FR 21639). Three intended references to 45°46′ N. lat. as published in lines 2, 3, and 4 of table 1 (North) were not correctly specified. As published, Line 2 incorrectly specified 45°16′ N. lat., instead of the correct reference, 45°46′ N. lat.; and lines 3 and 4 incorrectly specified 45°10′ N. lat., instead of the correct reference, 45°46′ N. lat. As published, line 3 described the shoreward line, and line 4 described the seaward lines. This rule will delete line 4 and describe the range of shoreward and seaward boundary lines within line 3, consistent with the format of the rest of the table. This action is to correct the 2014 Limited Entry Trawl Rockfish Conservation Areas and Landing Allowances Table 1 (North) to part 660, subpart D as published, in order to properly reflect the trip limit table coordinates as intended by the Agency in the Trawl RCA final rule (79 FR 21639).

Classification

The Assistant Administrator (AA) for Fisheries, NOAA, finds that pursuant to 5 U.S.C.553(b)(B), there is good cause to waive prior notice and an opportunity for public comment on this action, as notice and comment would be impracticable and contrary to the public interest. This notice corrects coordinates in the 2014 Limited Entry Trawl Rockfish Conservation Areas and Landing Allowances Table 1 (North) to part 660, subpart D that were inadvertently misreported in the Rockfish Conservation Area Boundaries for Vessels Using Bottom Trawl Gear final rule. This correction must be implemented in a timely manner to avoid confusion to the public likely to be caused by the errors in the table and avoid the potential for fishing in an area that was intended to be closed for conservation purposes. It would be contrary to the public interest to delay implementation of these changes until after public notice and comment, because making this regulatory change by May 13, 2014, corrects the errors and avoids confusion created by the above-referenced table and the potential for fishing in an area intended to be closed for conservation purposes. For the reasons above, the AA finds good cause under 5 U.S.C. 553(d)(3) to waive the 30-day delay in effectiveness and makes this rule effective immediately upon publication.

List of Subjects in 50 CFR Part 660

Fisheries, Fishing, and Indian fisheries.

Dated: May 7, 2014.
Samuel D. Rauch III,
Deputy Assistant Administrator for Regulatory Programs, National Marine Fisheries Service.

For the reasons set out in the preamble, 50 CFR part 660 is corrected by making the following correcting amendments:

PART 660—FISHERIES OFF WEST COAST STATES

1. The authority citation for part 660 continues to read as follows:

Authority: 16 U.S.C. 1801 et seq. and 16 U.S.C. 773 et seq.

2. Table 1 (North) to part 660, subpart D, is revised to read as follows:

BILLING CODE 3510-22-P

[FR Doc. 2014-10937 Filed 5-12-14; 8:45 am]

BILLING CODE 3510-22-C